DEPARTMENT OF TRANSPORTATION

Federal Aviation Administration

[Docket No. FAA-2017-0975]

Agency Information Collection Activities: Requests for Comments; Clearance of Renewed

AGENCY: Federal Aviation Administration (FAA), DOT.

ACTION: Notice and request for comments.

SUMMARY: The Federal Aviation Administration is seeking approval from the Office of Management and Budget (OMB) for a renewal of the existing Information Collection 2120-0768. As required by the Paperwork Reduction Act of 1995 (PRA), the purpose of this notice is to allow 60 days for public comment.

The FAA proposes collecting information related to requests to operate Unmanned Aircraft Systems (UAS) in controlled airspace pursuant to 14 CFR part 107 (“part 107”). FAA will use the collected information to make determinations whether to authorize or deny the requested operation of UAS in controlled airspace. The proposed information collection is necessary to issue such authorizations or denials consistent with the FAA's mandate to ensure safe and efficient use of national airspace.

In addition, FAA proposes collecting information related to requests for waiver from the waivable provisions of 14 CFR part 107. The proposed information collection is necessary to determine whether the proposed operation is eligible for waiver consistent with the FAA's mandate to ensure safe and efficient use of national airspace.

DATES: Written comments should be submitted by April 13, 2018.

ADDRESSES: You may submit comments [identified by Docket No. FAA-2017-0975] through one of the following methods:

• Federal eRulemaking Portal: http://www.regulations.gov. Follow the online instructions for submitting comments.

• Fax: 1 (202) 493-2251.

• Mail or Hand Delivery: Docket Management Facility, U.S. Department of Transportation, 1200 New Jersey Avenue SE, West Building, Room W12-140, Washington, DC 20590, between 9 a.m. and 5 p.m., Monday through Friday, except on Federal holidays.

FOR FURTHER INFORMATION CONTACT: Casey Nair, FAA's Unmanned Aircraft Systems (UAS) Low Altitude Authorization and Notification Capability (LAANC) Program Manager, tel (202) 267-0369 or via email at Casey.Nair@faa.gov.

SUPPLEMENTARY INFORMATION:

Public Comments Invited: You are asked to comment on any aspect of this information collection, including (a) Whether the proposed collection of information is necessary for the Department's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0768.

Title: Renewal of Existing Information Collection 2120-0768.

Form Numbers: There are no FAA forms associated with this collection.

Type of Review: Renewal of an information collection.

Background: Part 107 at § 107.41 states that “no person may operate a small unmanned aircraft in Class B, Class C, or Class D airspace or within the lateral boundaries of the surface area of Class E airspace designated for an airport unless that person has prior authorization from Air Traffic Control (ATC).” Such authorization may be obtained in the form of either an airspace authorization or a waiver of 14 CFR 107.41 (“airspace waiver”) issued by the FAA. There is great interest from the public in conducting flight operations of small UAS under part 107.

In order to process these authorization and airspace waiver requests, the FAA requires the operator's name, the operator's contact information, and information related to the date, place, and time of the requested small UAS operation. This information is necessary for the FAA to meet its statutory mandate of maintaining a safe and efficient national airspace. See, 49 U.S.C. 40103 and 44701; Public Law 112-95, Section 333.

Additionally, if the operator is seeking a waiver from the regulations listed in 14 CFR 107.205 (“operational waiver”), further information is required related to the proposed waiver and any necessary mitigations. The FAA will use the requested information to determine if the proposed UAS operation can be conducted safely.

The FAA proposes to use LAANC, or the Low Altitude Authorization and Notification Capability, and a web portal to process authorization requests from the public to conduct part 107 flight operations. The FAA also proposes to use the web portal to all members of the public to request authority to conduct flight operations that require a waiver from the waivable provisions in part 107.

Respondents: Small UAS operators seeking to conduct flight operations under 14 CFR part 107.

Number of Respondents: Between 2018-2020 FAA estimates it will receive a total of 160,766 requests for airspace authorizations, 24,721 requests for airspace waivers, and 15,169 requests for operational waivers.

Frequency: The requested information will need to be provided each time a respondent requests an airspace authorization to operate a small UAS under part 107 in controlled airspace. A respondent may reduce the frequency of providing by seeking and obtaining an airspace waiver to conduct recurring operations. For requests for operational waivers, a respondent will only need to provide the information once at the time of the request for waiver. If granted, operational waivers may be valid for up to four (4) years.

Total Annual Burden: The FAA estimates that the annual burden hours on respondents will be 9,953 hours (3,208 hours for LAANC respondents and 6,745 hours for web portal respondents) for airspace authorizations, 4,120 hours for airspace waivers and 3,286 hours for operational waivers.

Issued in Washington, DC, on February 6, 2018.
Casey Nair,
FAA LAANC Program Manager, Program Management Office, AJM-33.

[FR Doc. 2018-02692 Filed 2-9-18; 8:45 am]

BILLING CODE 4910-13-P